DEPARTMENT OF THE INTERIOR

Bureau of Land Management

[DSG070003 ID330-07-1430-FR 241A, IDI-34925-01]

Notice of Realty Action: Recreation and Public Purposes Act Classification; Idaho

AGENCY: Bureau of Land Management, Interior.

ACTION: Notice of realty action.

SUMMARY: The Bureau of Land Management (BLM) has determined that certain public lands located in Custer County, Idaho are suitable for classification for conveyance to the Custer County Commission, under authority of the Recreational and Public Purposes Act, June 14,1926 as amended by the Recreation and Public Purpose Act of 1988 (43 U.S.C. 869 et seq.),

DATES: Comments regarding the proposed conveyance should be received by August 27, 2007.

ADDRESSES: Detailed information concerning this action, including but not limited to documentation related to compliance with applicable environmental and cultural resource laws, is available for review at the BLM Challis Field Office. Address all written comments concerning this Notice to David Rosenkrance, BLM Challis Field Office Manager, 801 Blue Mountain Road, Challis, Idaho 83226-9304. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Tim Vanek, Realty Specialist, BLM Challis Field Office, (208) 879-6218.

SUPPLEMENTARY INFORMATION: The following described public land in Custer County, Idaho, has been examined and found suitable for conveyance to the Custer County Commission under the provisions of the Recreation and Public Purposes Act, as amended:

Boise Meridian, Idaho

T. 13 N., R 19 E.

Sec. 4, lots 9, 14, 15, 18, 19, W½NE¼SW¼, E½NW¼SW¼, SE¼SW¼, and; sec. 5, lot 9.

The land described above contains approximately 126.87 acres in Custer County. The land is adjacent to an existing waste transfer site which was formerly public land patented to the Village of Challis, ID in 1959 and was deeded to Custer County in 1997. The 40-acre patented parcel contains: Household refuse collection bins, a recycling area, yard debris collection, used appliance/scrap metal collection and used tire collection. A 40-acre, public land parcel immediately south and southeast of the patented parcel contains a construction debris pit and dead animal burial pit. The use of this parcel was first authorized to Custer County by the BLM for the purpose of non-municipal waste disposal under R&PP Lease on January 15, 1983. That authorization expired January 13, 2003. The BLM Challis Field Office re-authorized the use on June 3, 2005 with R&PP Lease in serial number: IDI-34925. This authorization also expired, on February 14, 2006. The remaining 76.87 acres are lots adjacent to the expired lease parcel and the patented parcel. These lots are not currently used for waste transfer, but they have been disturbed with trails, fences, and equipment storage.

The Custer County Commission proposes to use the land to continue operation of the Challis waste transfer site and expand the site when necessary. The land is not needed for Federal purposes. Conveyance of the public lands is consistent with the Challis Resource Management Plan and would be in the public interest.

The patent, when issued, will be subject to the following terms, conditions, and reservations:

1. Provisions of the Recreation and Public Purposes Act and all applicable regulations of the Secretary of the Interior. In particular, statutory provisions governing the disposal of existing leased disposal sites are to be found at 43 U.S.C 869-2(c)(2), regulatory provisions at 43 CFR 2743.3 and 2743.3-1. Statutory provisions governing the disposal of new disposal sites are to be found at 43 U.S.C. 869-2(b), regulatory provisions at 43 CFR 2743.2 and 2343.2-1.

2. A right of way for ditches and canals constructed by the authority of the United States, Act of August 30, 1890 (43 U.S.C. 945).

3. All valid existing rights.

4. The United States will reserve all minerals together with the right to prospect for, mine, and remove the minerals under applicable laws and such regulations as the Secretary of the Interior may prescribe, including all necessary access and exit rights.

5. These parcels are subject to the requirements of section 120(h) of the Comprehensive Environmental Response, Compensation and Liabilities Act, 42 U.S.C. 9620(h) (CERCLA), as amended by the Superfund Amendments and Reauthorization Act of 1988, Sat. 1670.

6. The patentee, its successors or assigns, by accepting a patent, agrees to indemnify, defend, and hold harmless the United States, its officers, agents, representatives, and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, State, and local laws and regulations that are now, or may in the future become, applicable to the real property and/or applicable to the use, occupancy, and/or operations thereon; (2) judgments, claims, or demands of any kind assessed against the United States; (3) costs, expenses, or damages of any kind incurred by the United States; (4) releases or threatened releases of solid or hazardous waste(s) and/or hazardous substances(s), pollutant(s), or contaminants(s), and/or petroleum product(s) or derivative(s) of a petroleum product, as defined by Federal or State environmental laws; of, on, into, or under land, property, and other interests of the United States; (5) other activities by which solid or hazardous substance(s) or waste(s), pollutant(s) or contaminant(s), or petroleum product(s) or derivative(s) of a petroleum product as defined by Federal or State environmental laws are generated, stored, used, or otherwise disposed of on the patented real property, and any cleanup response, remedial action, or other actions related in any manner to the said solid or hazardous substance(s) or waste(s) or contaminant(s), or petroleum product(s) or derivative(s) of a petroleum product as defined by Federal or State laws. Patentee shall stipulate that it will be solely responsible for compliance with all applicable Federal, State, and local environmental laws and regulatory provisions, throughout the life of the facility, including any closure and/or post-closure requirements that may be imposed with respect to any physical plant and or facility upon the real property under any Federal, State, or local environmental laws or regulatory provisions. In the case of a patent being issued, this covenant shall be construed as running with the patented real property and may be enforced by the United States in a court of competent jurisdiction.

Additional detailed information concerning this Notice of Realty Action, including environmental records, is available for review at the BLM Challis Field Office, 801 Blue Mountain Road, Challis, Idaho 83226. Office hours are 7:45 a.m. to 4:30 p.m., Monday through Friday except holidays.

Upon publication of this notice in the Federal Register, the land described above will be segregated from appropriation under the public land laws, including the mining laws except for conveyance under the Recreation and Public Purposes Act.

You may submit comments regarding the proposed classification or conveyance of the land to the BLM Field Office Manager at the address stated above. You may submit comments involving the suitability of the lands for a waste transfer site. Comments on the classification are restricted to the following four subjects:

(1) Whether the land is physically suited for the proposal;

(2) Whether the use will maximize the future use or uses of the land;

(3) Whether the use is consistent with local planning and zoning; and

(4) If the use is consistent with State and Federal programs.

You may submit comments regarding the specific use proposed in the County's application; and whether the BLM followed proper administrative procedures in reaching the decision. Comments received during this process, including respondent's name, address, and other contact information will be available for public review.

The State Director will review any adverse comments. In the event the public does not submit adverse comments, the classification will become effective no sooner than September 11, 2007. The lands will not be offered for conveyance until after the classification becomes effective.

FOR FURTHER INFORMATION CONTACT: Tim Vanek, Realty Specialist, BLM Challis Field Office, (208) 879-6218.

Authority: 43 CFR Subpart 2741.

David Rosenkrance,
Challis Field Manager.

[FR Doc. E7-13682 Filed 7-12-07; 8:45 am]

BILLING CODE 4310-GG-P